DEPARTMENT OF THE INTERIOR

National Park Service

[NPS-WASO-NAGPRA-19125: PPWOCRADN0-PCU00RP14.R50000]

Notice of Inventory Completion: U.S. Department of the Interior, National Park Service, Hubbell Trading Post National Historic Site, Ganado, AZ; Correction

AGENCY: National Park Service, Interior.

ACTION: Notice; correction.

SUMMARY: The U.S. Department of the Interior, National Park Service, Hubbell Trading Post National Historic Site has corrected an inventory of human remains, published in a Notice of Inventory Completion in the Federal Register on July 28, 2014. This notice corrects the disposition determination and clarifies when one set of remains was collected. Representatives of any Indian tribe or Native Hawaiian organization not identified in this notice that wish to request transfer of control of these human remains should submit a written request to Hubbell Trading Post National Historic Site. If no additional requestors come forward, transfer of control of the human remains to the Indian tribes or Native Hawaiian organizations stated in this notice may proceed.

DATES: Representatives of any Indian tribe or Native Hawaiian organization not identified in this notice that wish to request transfer of control of these human remains should submit a written request with information in support of the request to Hubbell Trading Post National Historic Site at the address in this notice by November 2, 2015.

ADDRESSES: Lloyd Masayumptewa, Superintendent, Hubbell Trading Post National Historic Site, P.O. Box 150, Ganado, AZ 86505-0150, telephone (928) 755-3475, email lloyd_masayumptewa@nps.gov.

SUPPLEMENTARY INFORMATION: Notice is here given in accordance with the Native American Graves Protection and Repatriation Act (NAGPRA), 25 U.S.C. 3003, of the correction of an inventory of human remains under the control of the U.S. Department of the Interior, National Park Service, Hubbell Trading Post National Historic Site, Ganado, AZ. The human remains were removed from Hubbell Trading Post National Historic Site, Apache County, AZ.

This notice is published as part of the National Park Service's administrative responsibilities under NAGPRA, 25 U.S.C. 3003(d)(3). The determinations in this notice are the sole responsibility of the Superintendent, Hubbell Trading Post National Historic Site.

This notice corrects the disposition determination and clarifies one removal date published in a Notice of Inventory Completion in the Federal Register (79 FR 43776-43778, July 28, 2014). The published notice recognized several Indian tribes as aboriginal to the area from which the human remains were removed. Upon further review, Hubbell Trading Post National Historic Site has determined that the land from which the human remains were removed is considered tribal land as defined at 25 U.S.C. 3001(15). Transfer of control of the items in this correction notice has not occurred.

Correction

In the Federal Register (79 FR 43776-43778, July 28, 2014), paragraph 8, sentence 1 is corrected by substituting the following sentences:

At an unknown date, likely after 1887, human remains representing, at minimum, one individual were removed from an unknown site, likely within the boundaries of Hubbell Trading Post National Historic Site. The remains were donated to the Trading Post at an unknown date by the Hubbell family.

In the Federal Register (79 FR 43776-43778, July 28, 2014), paragraphs 14, 15, and 16 are deleted.

In the Federal Register (79 FR 43776-43778, July 28, 2014), the following paragraph is inserted immediately before paragraph 17:

• Pursuant to 25 U.S.C. 3001(15), the land from which the Native American human remains were removed is the tribal land of the Navajo Nation, Arizona, New Mexico & Utah.

In the Federal Register (79 FR 43776-43778, July 28, 2014), paragraph 17 is corrected by substituting the following paragraph:

• Pursuant to 43 CFR 10.11(c)(1)(i), the disposition of the human remains will be to the Navajo Nation, Arizona, New Mexico & Utah.

In the Federal Register (79 FR 43776-43778, July 28, 2014), paragraph 18, sentence 2 is corrected by substituting the following sentence:

After that date, if no additional requestors have come forward, transfer of control of the human remains to the Navajo Nation, Arizona, New Mexico & Utah may proceed.

Additional Requestors and Disposition

Representatives of any Indian tribe or Native Hawaiian organization not identified in this notice that wish to request transfer of control of these human remains should submit a written request with information in support of the request to Lloyd Masayumptewa, Superintendent, Hubbell Trading Post National Historic Site, P.O. Box 150, Ganado, AZ 86505-0150, telephone (928) 755-3475, email lloyd_masayumptewa@nps.gov, by November 2, 2015. After that date, if no additional requestors have come forward, transfer of control of the human remains to the Navajo Nation, Arizona, New Mexico & Utah may proceed.

Hubbell Trading Post National Historic Site is responsible for notifying The Consulted Tribes and The Invited Tribes that this notice has been published.

Dated: August 25, 2015.
Melanie O'Brien,
Manager, National NAGPRA Program.

[FR Doc. 2015-25047 Filed 9-30-15; 8:45 am]

BILLING CODE 4312-50-P